DEPARTMENT OF ENERGY

Federal Energy Regulatory Commission

Combined Notice of Filings #1

Take notice that the Commission received the following electric corporate filings:

Docket Numbers: EC22-115-000.

Applicants: MN8 Energy LLC.

Description: Supplement to August 30, 2022, Joint Application for Authorization Under Section 203 of the Federal Power Act of MN8 Energy LLC, et al.

Filed Date: 9/21/22.

Accession Number: 20220921-5099.

Comment Date: 5 p.m. ET 9/28/22.

Take notice that the Commission received the following Complaints and Compliance filings in EL Dockets:

Docket Numbers: EL19-58-016.

Applicants: PJM Interconnection, L.L.C.

Description: Compliance filing: Compliance Filing Concerning Certain Reserve Pricing Provisions in EL19-58 to be effective 10/1/2022.

Filed Date: 9/23/22.

Accession Number: 20220923-5089.

Comment Date: 5 p.m. ET 10/13/22.

Take notice that the Commission received the following electric rate filings:

Docket Numbers: ER22-1857-001.

Applicants: Louisville Gas and Electric Company.

Description: Compliance filing: OMU Settlement Compliance Filing to be effective N/A.

Filed Date: 9/23/22.

Accession Number: 20220923-5010.

Comment Date: 5 p.m. ET 10/14/22.

Docket Numbers: ER22-2117-002.

Applicants: Midcontinent Independent System Operator, Inc.

Description: Tariff Amendment: 2022-09-23_SA 3454 Entergy Arkansas-Flat Fork 2nd Sub 1st Rev GIA (J907 J1434) to be effective 6/2/2022.

Filed Date: 9/23/22.

Accession Number: 20220923-5028.

Comment Date: 5 p.m. ET 10/14/22.

Docket Numbers: ER22-2388-001.

Applicants: Mississippi Power Company.

Description: Compliance filing: MRA 30 Compliance Filing to be effective 9/14/2022.

Filed Date: 9/23/22.

Accession Number: 20220923-5050.

Comment Date: 5 p.m. ET 10/14/22.

Docket Numbers: ER22-2510-001.

Applicants: The Narragansett Electric Company.

Description: Tariff Amendment: Narragnsett MBR Tariff Revisions to be effective 5/25/2022.

Filed Date: 9/23/22.

Accession Number: 20220923-5031.

Comment Date: 5 p.m. ET 10/14/22.

Docket Numbers: ER22-2609-001.

Applicants: Midcontinent Independent System Operator, Inc.

Description: Tariff Amendment: 2022-09-23_SA 3413 Ameren IL-Cass County Solar Project Sub 2nd Rev GIA (J859) to be effective 7/22/2022.

Filed Date: 9/23/22.

Accession Number: 20220923-5025.

Comment Date: 5 p.m. ET 10/14/22.

Docket Numbers: ER22-2827-001.

Applicants: Bluegrass Solar, LLC.

Description: Tariff Amendment: Amendment to 1 to be effective 9/23/2022.

Filed Date: 9/22/22.

Accession Number: 20220922-5152.

Comment Date: 5 p.m. ET 10/3/22.

Docket Numbers: ER22-2921-000.

Applicants: PJM Interconnection, L.L.C.

Description: § 205(d) Rate Filing: First Revised ISA, Service Agreement No. 5220; Queue No. AD1-148 to be effective 8/24/2022.

Filed Date: 9/23/22.

Accession Number: 20220923-5008.

Comment Date: 5 p.m. ET 10/14/22.

Docket Numbers: ER22-2922-000.

Applicants: Southern California Edison Company.

Description: § 205(d) Rate Filing: Silver State South Solar Project ED&P LA TOT381-TOT405 (SA290) to be effective 9/24/2022.

Filed Date: 9/23/22.

Accession Number: 20220923-5048.

Comment Date: 5 p.m. ET 10/14/22.

Docket Numbers: ER22-2923-000.

Applicants: PacifiCorp.

Description: § 205(d) Rate Filing: UAMPS Const Agmt Santa Clara BTM Resource Modeling to be effective 11/23/2022.

Filed Date: 9/23/22.

Accession Number: 20220923-5074.

Comment Date: 5 p.m. ET 10/14/22.

Docket Numbers: ER22-2924-000.

Applicants: RWE Supply & Trading Americas, LLC.

Description: Baseline eTariff Filing: Application for Market Based Rate Authority to be effective 11/1/2022.

Filed Date: 9/23/22.

Accession Number: 20220923-5079.

Comment Date: 5 p.m. ET 10/14/22.

Docket Numbers: ER22-2925-000.

Applicants: Jicarilla Solar 1 LLC.

Description: Baseline eTariff Filing: Application for Market-Based Rate Authority to be effective 11/15/2022.

Filed Date: 9/23/22.

Accession Number: 20220923-5121.

Comment Date: 5 p.m. ET 10/14/22.

Docket Numbers: ER22-2926-000.

Applicants: Jicarilla Storage 1 LLC.

Description: Baseline eTariff Filing: Application for Market-Based Rate Authority to be effective 12/1/2022.

Filed Date: 9/23/22.

Accession Number: 20220923-5122.

Comment Date: 5 p.m. ET 10/14/22.

Docket Numbers: ER22-2927-000.

Applicants: Mid-Atlantic Interstate Transmission, LLC, PJM Interconnection, L.L.C.

Description: § 205(d) Rate Filing: Mid-Atlantic Interstate Transmission, LLC submits tariff filing per 35.13(a)(2)(iii: MAIT submits One ECSA, SA No. 6492 Klecknersville to be effective 11/23/2022.

Filed Date: 9/23/22.

Accession Number: 20220923-5141.

Comment Date: 5 p.m. ET 10/14/22.

Docket Numbers: ER22-2928-000.

Applicants: Southwest Power Pool, Inc.

Description: § 205(d) Rate Filing: SPP-AECI JOA Revisions to Add Provisions for Emergency Energy Assistance to be effective 9/24/2022.

Filed Date: 9/23/22.

Accession Number: 20220923-5151.

Comment Date: 5 p.m. ET 10/14/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2022.
Kimberly D. Bose,
Secretary.

[FR Doc. 2022-21146 Filed 9-28-22; 8:45 am]

BILLING CODE 6717-01-P